DEPARTMENT OF THE INTERIOR

Bureau of Land Management

[NV-060-3809]

Notice of Availability: Pipeline/South Pipeline Pit Expansion Project Final Supplemental Environmental Impact Statement

AGENCY: Bureau of Land Management, Interior.

Cooperating Agency: Nevada Department of Wildlife.

ACTION: Notice of availability of the Pipeline/South Pipeline Pit Expansion Project final supplemental environmental impact statement.

SUMMARY: Pursuant to Section 102(2)(c) of the National Environmental Policy Act of 1969 and the Council on Environmental Quality Regulations found at 40 CFR parts 1500-1508, notice is hereby given of the availability of the Final Supplemental Environmental Impact Statement (FSEIS) for comment, prepared by the Battle Mountain Field Office of the Bureau of Land Management (BLM). The FSEIS analyzes the environmental effects of the Proposed Action, Complete Backfill Alternative, No Backfill Alternative, and the No Action Alternative.

DATES: Written comments must be post-marked or otherwise delivered by 4:30 p.m. (Pacific Time Zone) by no later than 30 days after the date that the Environmental Protection Agency publishes this Notice in the Federal Register. A limited number of copies of the FSEIS may be obtained at the Battle Mountain BLM Field Office.

ADDRESSES: Written comments should be addressed to the Bureau of Land Management, Attn: Pam Jarnecke, Battle Mountain Field Office, 50 Bastian Road, Battle Mountain, Nevada 89820.

Comments, including names and addresses or respondents, will be available for public review at the above address during regular business hours, Monday-Friday, excluding holidays. Individual respondents may request confidentiality. If you wish to withhold your name or street address from public review or from disclosure under the Freedom of Information Act, you must state this prominently at the beginning of your written comment. However, we will not consider anonymous comments. Such requests to withhold your name or street address from public review will be honored to the extent allowed by law. All submissions from organizations or business, and from individuals identifying themselves as representatives of officials of organizations or businesses, will be available for public inspection in their entirety. The FSEIS is available at the Battle Mountain Field Office at the above address.

FOR FURTHER INFORMATION CONTACT: Pam Jarnecke, Battle Mountain BLM at (775) 635-4144.

SUPPLEMENTARY INFORMATION: Cortez Gold Mines (CGM) proposes to expand its current gold mining operations 30 miles southeast of Battle Mountain, Nevada. The proposed Pit Expansion Project would not result in an increase in surface disturbance beyond the 7,676 acres previously approved. Actions associated with the Project would consist of the following: expand the South Pipeline open pit to the east, southeast, and southwest; increase the depth of the Pipeline/South Pipeline open pit; use resulting waste rock as backfill into portions of the Pipeline/South Pipeline open pit; increase the height of the approved South Area Heap Leach pad from a height of 250 feet to 300 feet above ground surface; increase the approved Area 28 tailings and heap leach facility height from 250 feet to 300 feet above ground surface; construct an additional waste rock dump on the backfilled portion of the open pit; construct the 125-acre Gap waste rock dump; increase the approved mining rate from an average 150,000 tons per day (tpd) with a maximum of 250,000 tpd to an average of 350,000 tpd with a maximum of 500,000 tpd; translocate waste rock within the Pipeline/South Pipeline open pit, including portions of the expanded open pit; conduct certain activities at the approved Cortez facility without modification to the facility; install ground water extraction wells (ground water extraction from the existing and planned wells would not exceed the approved annualized average rate of 34,500 gallons per minute); close the existing Gold Acres heap leach facility and move the ore to the South Area heap leach facility for further processing; and continue management of mine dewatering as outlined in the Pipeline Infiltration Plan and South Pipeline EIS. The proposed additional development of the South Pipeline ore deposit would provide up to seven additional years of mining and processing. The combined life of the Pipeline Project, the South Pipeline Project and the Proposed Action would be up to 25 years.

Gerald M. Smith,
Field Manager.

[FR Doc. 05-3628 Filed 2-24-05; 8:45 am]

BILLING CODE 4310-HC-P